DEPARTMENT OF THE INTERIOR

Minerals Management Service

30 CFR Part 260

Outer Continental Shelf Oil and Gas Leasing

CFR Correction

In Title 30 of the Code of Federal Regulations, Parts 200 to 699, revised as of July 1, 2009, on page 549, in § 260.122, reinstate paragraphs (b)(2) and (b)(3) to read as follows:

§ 260.122 How long will a royalty suspension volume be effective for a lease issued in a sale held after November 2000?

* * * * *

(b) * * *

(2) You must pay any royalty due under this paragraph, plus late payment interest under § 218.54 of this title, no later than 90 days after the end of the period for which royalty is owed.

(3) Any production on which you must pay royalty under this paragraph will count toward the production volume determined under §§ 260.120 through 260.124.

* * * * *

[FR Doc. E9-30016 Filed 12-15-09; 8:45 am]

BILLING CODE 1505-01-D